DEPARTMENT OF HEALTH AND HUMAN SERVICES

National Institutes of Health

Center for Scientific Review; Amended Notice of Meeting

Notice is hereby given of a change in the meeting of the Molecular Genetics B Study Section, September 27, 2018, 10:00 a.m. to September 28, 2018, 06:00 p.m., National Institutes of Health, 6701 Rockledge Drive, Bethesda, MD, 20892 which was published in the Federal Register on September 06, 2018, 83FR173 pg. 45264.

The meeting will be held on September 27, 2018, starting at 8:30 a.m. The meeting location remains the same. The meeting is closed to the public.

Dated: September 14, 2018.
Melanie J. Pantoja,
Program Analyst, Office of Federal Advisory Committee Policy.

[FR Doc. 2018-20415 Filed 9-19-18; 8:45 am]

BILLING CODE 4140-01-P